DEPARTMENT OF DEFENSE

Office of the Secretary

[Docket ID: DoD-2013-OS-0086]

Submission for OMB Review; Comment Request

AGENCY: Office of the Inspector General (DoDIG), DoD.

ACTION: 30-day notice of submission of information collection approval from the Office of Management and Budget and request for comments.

SUMMARY: As part of an effort to streamline the process to seek feedback from the public on service delivery, DoDIG has submitted a Generic Information Collection Request (Generic ICR): “Generic Clearance for the Collection of Qualitative Feedback on Agency Service Delivery” to OMB for approval under the Paperwork Reduction Act (PRA) (44 U.S.C. 3501 et. seq.).

DATES: Comments must be submitted by March 6, 2014.

FOR FURTHER INFORMATION CONTACT: Fred Licari, 571-372-0493.

SUPPLEMENTARY INFORMATION: Title and OMB Number: Generic Clearance for the DoD IG Digital Communications Outreach—Generic Survey Collection; OMB Control Number 0704-TBD.

Needs and Uses: The information collection requirement is necessary to obtain customer satisfaction metrics from users of the organization's Web site, www.dodig.mil and those engaged by public affairs and social media initiatives. The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. Specifically, this collection is necessary for DoD IG's compliance with OMB Digital Strategy Milestone 8.2, which requires agencies to implement customer satisfaction measurement tools on all government Web sites. This strategy identifies specific customer satisfaction metrics that all agencies must measure, which will enable aggregation of this data at the federal level, providing a government-wide view of how well we serve our customers and opening up new possibilities for consolidating and improving the federal Web space. Compliance with the Digital Strategy will also allow DoD IG to make data-driven decisions on service performance and increase customer satisfaction. A 60-day Federal Reserve notice was published on April 22, 2013 (78 FR 23756). No public comments were received.

Type of Review: New.

Affected Public: Individuals or Households.

Respondent's Obligation: Voluntary.

Annual Estimates

Expected Annual Number of Activities/Collections: 2.

Annual Number of Respondents: 2,000.

Annual Number of Responses: 2,000.

Frequency of Response: On Occasion.

Average Burden per Response: 10 minutes.

Annual Burden Hours: 333.

3-Year Estimates: The 3-Year Ceiling for This Generic Collection

Total Expected Number of Activities/Collections: 6.

Total Number of Respondents: 6,000.

Total Number of Responses: 6,000.

Frequency of Response: On Occasion.

Average Burden per Response: 10 minutes.

Total Burden Hours: 1,000.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

To request additional information please contact Ms. Toppings, DoD Clearance Officer, at WHS/ESD Information Management Division, 4800 Mark Center Drive, East Tower, Suite 02G09, Alexandria, VA 22350-3100.

Dated: January 30, 2014.
Aaron Siegel,
Alternate OSD Federal Register Liaison Officer, Department of Defense.

[FR Doc. 2014-02279 Filed 2-3-14; 8:45 am]

BILLING CODE 5001-06-P